DEPARTMENT OF AGRICULTURE

Rural Housing Service

Farm Service Agency

Notice of Request for Extension of a Currently Approved Information Collection

AGENCIES: Rural Housing Service (RHS) and Farm Service Agency (FSA), USDA.

ACTION: Proposed collection; comments requested.

SUMMARY: In accordance with the Paperwork Reduction Act of 1995, this notice announces the Agencies intention to request an extension for a currently approved information collection in support of the programs for Form RD 1940-59, “Settlement Statement.”

DATES: Comments on this notice must be received by August 13, 2007 to be assured of consideration.

FOR FURTHER INFORMATION CONTACT: Teresa Sumpter, Loan Specialist, Single Family Housing Direct Loan Division, Rural Housing Service, U.S. Department of Agriculture, Mail STOP 0783, 1400 Independence Ave., SW., Washington, DC 20250-0783, Telephone 202-720-1485. (This is not a toll free number.)

SUPPLEMENTARY INFORMATION: Title: Form RD 1940-59, “Settlement Statement.”

OMB Number: 0575-0088.

Expiration Date of Approval: October 30, 2007.

Type of Request: Extension of a currently approved information collection.

Abstract: The Agencies are requesting an extension of the OMB clearance for Form RD 1940-59, “Settlement Statement.” The Real Estate Settlement Procedures Act (RESPA), as amended, required the disclosure of real estate settlement costs to home buyers and sellers. The Secretary of the Department of Housing and Urban Development (HUD) was instructed by the RESPA to develop a standard form for the statement of settlement costs to be used for all federally related transactions. Form RD 1940-59 is similar to the HUD-1 Settlement Statement used by HUD, the Veterans Administration, and the private mortgage industry, with some minor adaptations acceptable under RESPA.

Form RD 1940-59 is completed by Settlement Agents, Closing Attorneys, and Title Insurance Companies performing the closing of RHS loans and credit sales used to purchase or refinance Section 502 Housing, Rural Rental Housing, and Farm Labor Housing. The same parties performing the closing of FSA Farm Ownership loans and credit sales also complete the form. The information is collected to provide the buyer and seller with a statement detailing the actual costs of the settlement services involved in the Agencies financed real estate transactions.

Estimate of Burden: Public reporting burden for this collection of information is estimated to average .36 hours per response.

Respondents: Settlement Agents, Closing Attorneys, and Title Insurance Companies performing the closing of the Agencies loans and credit sales.

Estimated Number of Respondents: 11,928.

Estimated Number of Responses per Respondent: 1.8.

Estimated Number of Responses: 21,135.

Estimated Total Annual Burden on Respondents: 7,530 hours.

Copies of this information collection can be obtained from Renita Bolden, Regulations and Paperwork Management Branch, at (202) 692-0035.

Comments: Comments are invited on: (a) Whether the proposed collection of information is necessary for the proper performance of the functions of the Agencies, including whether the information will have practical utility; (b) the accuracy of the Agencies' estimate of the burden of the proposed collection of information including the validity of the methodology and assumptions used; (c) ways to enhance the quality, utility and clarity of the information to be collected; and (d) ways to minimize the burden of the collection of information on those who are to respond, including through the use of appropriate automated, electronic, mechanical, or other technological collection techniques, or other forms of information technology. Comments may be sent to Renita Bolden, Regulation and Paperwork Management Branch, U.S. Department of Agriculture, Rural Development, Stop 0742, 1400 Independence Ave., SW., Washington, DC 20250-0742. All responses to this notice will be summarized and included in the request for OMB approval. All comments will also become a matter of public record.

Dated: June 6, 2007.
Russell T. Davis,
Administrator, Rural Housing Service.
Dated: June 6, 2007.
Glen L. Keppy,
Acting Administrator, Farm Service Agency.

[FR Doc. 07-2925 Filed 6-12-07; 8:45 am]

BILLING CODE 3410-XV-P